DEPARTMENT OF COMMERCE

National Oceanic and Atmospheric Administration

[I.D. 041002A]

Endangered Species; Permits

AGENCY: National Marine Fisheries Service (NMFS), National Oceanic and Atmospheric Administration (NOAA), Commerce.

ACTION: NMFS has issued modification #3 to Permit 1178 and modification #1 to Permit 1295.

SUMMARY: Notice is hereby given of the following actions regarding permits for takes of endangered and threatened species for the purposes of scientific research and/or enhancement under the Endangered Species Act (ESA): NMFS has issued modification #3 to Permit 1178 to Mr. Harold Foster, of NMFS-NEFSC and modification #1 to permit 1295 to Dr. Richard Merrick, of NMFS-NEFSC-PSB.

SUPPLEMENTARY INFORMATION:

Authority

Issuance of permits and permit modifications, as required by the Endangered Species Act of 1973 (16 U.S.C. 1531-1543) (ESA), is based on a finding that such permits/modifications: (1) are applied for in good faith; (2) would not operate to the disadvantage of the listed species which are the subject of the permits; and (3) are consistent with the purposes and policies set forth in section 2 of the ESA. Scientific research and/or enhancement permits are issued under section 10(a)(1)(A) of the ESA. Authority to take listed species is subject to conditions set forth in the permits. Permits and modifications are issued in accordance with and are subject to the ESA and NMFS regulations governing listed fish and wildlife permits (50 CFR parts 222-226).

Species Covered in This Notice

The following species:

Sea turtles

Threatened and endangered Green turtle (Chelonia mydas)

Endangered Hawksbill turtle (Eretmochelys imbricata)

Endangered Kemp's ridley turtle (Lepidochelys kempii)

Endangered Leatherback turtle (Dermochelys coriacea)

Threatened Loggerhead turtle (Caretta caretta)

Permit # 1178

Notice was published on October 26, 2001 (63 FR 49335), that Mr. Harold Foster, of NMFS-NEFSC applied for a modification to 1178. Modification #3 authorizes the import and export of sea turtle pieces and parts for the purpose of research. The applicant has a 5-year scientific research permit to take listed sea turtles incidentally taken in foreign and domestic commercial fisheries operating in state waters and the Exclusive Economic Zone in the Northwest Atlantic Ocean. The work will be conducted by scientific observers aboard commercial fishing vessels. The following species and annual take numbers have been requested: 300 loggerhead (Caretta caretta), 85 leatherback (Dermochelys coriacea), 10 Kemp's ridley (Lepidochelys kempi), 10 hawksbill (Eretmochelys imbricata), and 10 green (Chelonia mydas) turtles. The applicant has requested authorization to measure, photograph, flipper tag, scan for PIT tags, resuscitate (if necessary) and release turtles taken incidentally in foreign and domestic commercial fisheries. Further, the applicant has requested authority to bring to shore, when feasible, dead sea turtles for necropsy. Necropsy will only be performed by personnel currently permitted to conduct such research. This research supports the National Marine Fisheries Service's mission of assessing the impacts of commercial fisheries on marine resources of interest to the United States. Modification #3 to Permit 1178 was issued on March 25, 2002, authorizing take of listed species. Permit 1178 expires December 31, 2003.

Permit # 1295

Notice was published on October 26, 2001 (66 FR 54233), that Dr. Richard Merrick, of NMFS-NEFSC-PSB applied for a modification to 1295. Modification #1 authorizes the import and export of sea turtle pieces and parts for the purpose of research. The goal of the 5-year plan for sea turtles in the Northeast is to work cooperatively with other regions to support and direct research on sea turtles in order to identify and assess the status of sea turtle stocks, reduce the estimated mortality associated with fishing activities and other anthropogenic and natural sources and to recover ESA listed species. Modification #1 to Permit 1295 was issued on March 28, 2002, authorizing take of listed species. Permit 1295 expires May 31, 2006.

Dated: April 12, 2002.
Ann Terbush
Chief, Permits, Conservation, and Education Division, Office of Protected Resources, National Marine Fisheries Service.

[FR Doc. 02-9523 Filed 4-17-02; 8:45 am]

BILLING CODE 3510-22-S